DEPARTMENT OF COMMERCE

National Oceanic and Atmospheric Administration

[I.D. 071602A]

Marine Mammals; File No. 1034-1685 and Permit No. 751-1614

AGENCY: National Marine Fisheries Service (NMFS), National Oceanic and Atmospheric Administration (NOAA), Commerce.

ACTION: Receipt of application for a permit and application to amend a permit.

SUMMARY: Notice is hereby given of the following actions regarding permits for takes of marine mammals for purposes of scientific research: NMFS has received a permit application from Dr. Markus Horning, Department of Marine Biology, Texas A&M University, Galveston, TX 77551, to take California sea lions (Zalophus californianus); and an application to amend Permit No. 751-1614 issued to the Ocean Alliance/Whale Conservation Institute, 191 Weston Road, Lincoln, MA 01773 (Dr. Roger S. Payne, Principal Investigator).

DATES: Written or telefaxed comments must be received on or before August 21, 2002.

ADDRESSES: The application and related documents are available for review upon written request or by appointment in the following office(s):

For both applications, Permits, Conservation and Education Division, Office of Protected Resources, NMFS, 1315 East-West Highway, Room 13705, Silver Spring, MD 20910; phone (301)713-2289; fax (301)713-0376;

For File No. 1034-1685, Southwest Region, NMFS, 501 West Ocean Blvd., Suite 4200, Long Beach, CA 90802-4213; phone (562)980-4001; fax (562)980-4018;

For Permit No. 751-1614, Northeast Region, NMFS, One Blackburn Drive, Gloucester, MA 01930-2298; phone (978)281-9200; fax (978)281-9371; and

For Permit No. 751-1614, Southeast Region, NMFS, 9721 Executive Center Drive North, St. Petersburg, FL 33702-2432; phone (727)570-5301; fax (727)570-5320.

FOR FURTHER INFORMATION CONTACT: Tammy Adams, Ruth Johnson, or Amy Sloan, (301)713-2289.

SUPPLEMENTARY INFORMATION: The subject permit, File No. 1034-1685, is requested under the authority of the Marine Mammal Protection Act of 1972, as amended (MMPA; 16 U.S.C. 1361 et seq.), and the Regulations Governing the Taking and Importing of Marine Mammals (50 CFR part 216). The subject amendment to Permit No. 751-1614 is requested under the authority of the MMPA, the Regulations Governing the Taking and Importing of Marine Mammals (50 CFR part 216), the ESA, and the regulations governing the taking, importing, and exporting of endangered and threatened species (50 CFR parts 222-226).

The applicant for File No. 1034-1685 proposes to implant dual satellite-linked life history transmitters in up to 15 rehabilitated California sea lions at the Marine Mammal Center per year, for two years, to determine long-term post-release survival rates of rehabilitated sea lions. External tags will also be attached for short-term monitoring. To assess stress levels from surgical procedures, and to relate post-rehabilitation health status to survival, blood samples will be collected for standard clinical hematology and chemistry panels. Blubber biopsies, bioelectric impedance analysis, deuterium dilution determinations, and blubber ultrasound will also be performed.

Permit No. 751-1614, issued on March 7, 2002 (67 FR 11677) authorizes takes of various cetacean species by aerial survey, photo-identification, and biopsy sampling, within waters under the jurisdiction of the United States or on the high seas of the Pacific, Atlantic, and Indian Oceans, and the Mediterranean Sea. It also authorizes the import/export of an unlimited number of samples (sloughed skin from live animals, and skin, blubber, blood, bone, baleen and other tissues collected from dead stranded animals) collected within the territorial waters of a number of foreign countries. The holder of Permit No. 751-1614 has requested authorization to import and export samples collected from the cetacean species listed in the permit within the territorial waters of any foreign country sanctioned by the United States and in accordance with the permit conditions.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: July 16, 2002.
Eugene T. Nitta,
Acting Chief, Permits, Conservation and Education Division, Office of Protected Resources, National Marine Fisheries Service.

[FR Doc. 02-18441 Filed 7-19-02; 8:45 am]

BILLING CODE 3510-22-S